DEPARTMENT OF COMMERCE

National Oceanic and Atmospheric Administration

RIN 0648-XV054

New England Fishery Management Council; Public Meeting

AGENCY: National Marine Fisheries Service (NMFS), National Oceanic and Atmospheric Administration (NOAA), Commerce.

ACTION: Notice of public meeting.

SUMMARY: The New England Fishery Management Council (Council, NEFMC) will hold a four-day meeting to consider actions affecting New England fisheries in the exclusive economic zone (EEZ).

DATES: The meeting will be held on Monday, Tuesday, Wednesday, and Thursday, September 23, 24, 25, and 26, 2019, beginning at 1:30 p.m. on September 23 and 8:30 a.m. on September 24, 25, and 26.

ADDRESSES: The meeting will be held at the Beauport Hotel, 55 Commercial Street, Gloucester, MA 01930; telephone (978) 282-0008; online at www.beauporthotel.com.

Council address: New England Fishery Management Council, 50 Water Street, Mill 2, Newburyport, MA 01950; telephone (978) 465-0492; www.nefmc.org.

FOR FURTHER INFORMATION CONTACT: Thomas A. Nies, Executive Director, New England Fishery Management Council; telephone: (978) 465-0492, ext. 113.

SUPPLEMENTARY INFORMATION:

Agenda

Monday, September 23, 2019

After introductions and brief announcements, the meeting will begin with the swearing-in of reappointed Council members, followed by the annual election of officers. Next, the Council will hear reports from the Council Chairman and Executive Director, NMFS's Regional Administrator for the Greater Atlantic Regional Fisheries Office (GARFO), liaisons from the Northeast Fisheries Science Center (NEFSC) and Mid-Atlantic Fishery Management Council, representatives from NOAA General Counsel and NOAA's Office of Law Enforcement, and staff from the Atlantic States Marine Fisheries Commission (ASMFC), U.S. Coast Guard, and Stellwagen Bank National Marine Sanctuary. The Council then will take up the Atlantic Herring Committee report and discuss two issues. For the first one, the Council will: (a) Receive a presentation on a draft discussion document about Atlantic herring spawning on Georges Bank; and (b) discuss possible Council action on next steps. Regarding the second issue, the Council used a Management Strategy Evaluation (MSE) process to develop acceptable biological catch (ABC) control rule alternatives for Amendment 8 to the Atlantic Herring Fishery Management Plan (FMP). The Council recently took a step back to solicit stakeholder feedback and conduct a “debrief” on how that process went. At this meeting, the Council will receive an overview of the results of the debriefing. Next, the Council will receive a presentation from GARFO on NMFS's determination that an Endangered Species Act listing for alewife and blueback herring, also known as river herring, was “not warranted.” Following these actions, the Council will adjourn for the day.

Tuesday, September 24, 2019

The Council will begin the day by discussing a Commercial eVTR Omnibus Framework that is under development jointly with the Mid-Atlantic Fishery Management Council. The framework proposes to require that vessel trip reports (VTRs) be submitted electronically instead of on paper for all commercial species managed by both Councils. The Mid-Atlantic Council initiated the action, and in June, the New England Council joined in. This marks the first framework meeting for the omnibus action by the New England Council. Next, the Scientific and Statistical Committee (SSC) will provide the Council with overfishing limit (OFL) and ABC recommendations for: Georges Bank yellowtail and the Northeast skate complex for fishing years 2020-2021; monkfish for 2020-2022; and deep-sea red crab for 2020-2023. The Monkfish Committee will report next. The Council will take final action on Framework Adjustment 12, which contains 2020-2022 fishing year specifications and other measures for the Monkfish FMP. This will be followed by the Atlantic Deep-Sea Red Crab report, where the Council will take final action on 2020-2023 specifications for the red crab fishery. Skates will be up next. The Council will discuss and take final action on Framework Adjustment 8, which contains 2020-2021 fishing year specifications and other measures for the Northeast skate complex. It also will receive the fishing year 2018 Annual Monitoring Report for the skate complex.

Following the lunch break, the Council will hear from its Ecosystem-Based Fishery Management (EBFM) Committee. First, the Council will receive a presentation on the Georges Bank example Fishery Ecosystem Plan (eFEP) Draft Report and provide comments. Once this discussion is completed, the Council will shift to Management Strategy Evaluation. The Council will be using MSE as it continues to work on the Georges Bank eFEP, and the Council will receive a progress report from its new EBFM MSE Steering Committee about how this effort is evolving. The Council then will adjourn for the day.

Wednesday, September 25, 2019

The third day of the meeting will begin with a report on the Northeast Trawl Advisory Panel's June 21 and July 29, 2019 meetings. The Council then will receive an update on the Groundfish Catch Share Program Review from two contractors that have been helping collect information and public input on this six-year review of the groundfish sector system. The Gulf of Maine Research Institute (GMRI) will provide an overview of the nine port meetings that were conducted in July and August to collect public comment on the review, and MRAG Americas Inc. will provide a briefing on the technical working group's progress on the review itself. The Enforcement Committee will report next and provide enforcement recommendations for: the Groundfish Codend Compliance Assistance Program (CAP); the Groundfish Catch Share Program Review; groundfish sector management compliance improvement; and Groundfish Monitoring Amendment 23. Then, the Council will: (1) Receive a presentation on NMFS's Draft Policy Directive on Electronic Monitoring (EM) Video Retention Periods; and (2) review and approve draft Council comments on the NMFS guidance. Next, the Council will address U.S./Canada issues based on information from the Transboundary Resources Assessment Committee (TRAC) and the Transboundary Management Guidance Committee (TMGC). The TRAC report will be first with a summary of 2018 assessment results for three U.S./Canada shared stocks—Eastern Georges Bank cod, Eastern Georges Bank haddock, and Georges Bank yellowtail flounder. The Council then will review and approve the TMGC's recommendations for 2020 total allowable catches (TACs) for those shared U.S./Canada stocks. Next, the Groundfish Committee will present the first part of its report, which will focus on Framework Adjustment 59 to the Northeast Multispecies FMP. This framework includes: (1) 2020 TACs for U.S./Canada stocks; (2) 2020-22 specifications for 15 Northeast multispecies stocks while addressing commercial/recreational allocation if raised by Marine Recreational Information Program (MRIP) data; and (3) removing allocations to the Closed Area I Haddock Special Access Program.

After the lunch break, members of the public will have the opportunity to speak during an open comment period on issues that relate to Council business but are not included on the published agenda for this meeting. The Council asks the public to limit remarks to 3-5 minutes. Then, the Groundfish Committee will resume with the second part of its report, which will focus on Monitoring Amendment 23 to Northeast Multispecies FMP. The Council will approve the Amendment 23 Draft Environmental Impact Statement (DEIS) for public hearing and select preliminary preferred alternatives. At the conclusion of this discussion, the Council will adjourn for the day.

Thursday, September 26, 2019

The fourth day of the meeting will begin with an initial discussion of 2020 Council priorities covering tasks and actions for all committees and Council responsibilities. The Council will not take final action on priorities until its December meeting. The Council then will take up several issues under its Scallop Committee Report, beginning with an update on Framework Adjustment 32 to the Atlantic Sea Scallop FMP. This framework includes 2020 fishery specifications, 2021 default specifications, and measures to mitigate impacts on Georges Bank yellowtail flounder. As part of this discussion, the Council will receive an overview of the 2019 scallop resource surveys. The Council also will receive an update on Amendment 21 to the FMP, which is being developed to address: (1) Northern Gulf of Maine (NGOM) Management Area issues, (2) the Limited Access General Category (LAGC) possession limit, and (3) the one-way transfer of individual fishing quota (IFQ) from Limited Access vessels with LAGC IFQ to vessels that only hold LAGC IFQ permits. Next, the Council will receive an overview of the Fishing Year 2018 Small-Mesh Multispecies (Whiting) Annual Monitoring Report and receive a brief update on southern red hake rebuilding measures.

Following a lunch break, the Council will receive a report from its Habitat Committee. This will include: (1) An update on development of additional policies related to non-fishing activities; (2) an update on ongoing offshore energy activities in the Northeast Region; and (3) an overview of the revised joint New England/Mid-Atlantic Council offshore wind webpage. Then, the Council will receive two short reports on Highly Migratory Species (HMS) issues. The first will cover the HMS Advisory Panel's September 4-5, 2019 meeting, and the second will cover the September 5-6, 2019 meeting of the Advisory Committee to the U.S. Section to the International Commission for the Conservation of Atlantic Tunas (ICCAT). Finally, the Council will close out the meeting with “other business.”

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies (see ADDRESSES) at least 5 days prior to the meeting date.

Authority: 16 U.S.C. 1801 et seq.

Dated: September 4, 2019.
Tracey L. Thompson,
Acting Deputy Director, Office of Sustainable Fisheries, National Marine Fisheries Service.

[FR Doc. 2019-19381 Filed 9-6-19; 8:45 am]

BILLING CODE 3510-22-P